DEPARTMENT OF THE INTERIOR

National Park Service

National Register of Historic Places;Notification of Pending Nominations

Nominations for the following properties being considered for listing in the National Register were received by the National Park Service before May 26, 2000. Pursuant to § 60.13 of 36 CFR part 60 written comments concerning the significance of these properties under the National Register criteria for evaluation may be forwarded to the National Register, National Park Service, 1849 C St. NW., NC400, Washington, DC 20240. Written comments should be submitted by June 21, 2000.

Carol D. Shull,
Keeper of the National Register.

ALABAMA

Jefferson County

Belview Heights Historic District, Roughly along 41st, 42nd, 43rd, 44th and 45th Sts., and M and Martin Aves., Birmingham, 00000713

Lakewood Historic District, Roughly bounded by Lee Ave., 82nd St., Spring St., and 80th St., Birmingham, 00000710

Lawrence County

Ice House, 844 Seminary St., Moulton, 00000712

Tallapoosa County

Alexander City Commercial Historic District, Portions of Broad, Main, Green, Alabama, Jefferson Sts. and Courthouse Sq. Alexander City, 00000711

GEORGIA

Chatham County

Vernonburg Historic District, Dancy Ave., Rockwell Ave. and S. Rockwell Ave., Vernonburg, 00000714

INDIANA

Elkhart County

Beardsley, Dr. Havilah, House, 102 W. Beardsley Ave., Elkhart, 00000716

St. Joseph County

Wenger, Martin, Farmhouse, 701 E. Pennsylvania, South Bend, 00000715

LOUISIANA

Rapides Parish

Mt. Olivet Episcopal Church and Cemetery, 335 Main St., Pineville, 00000718

St. Tammany Parish

Tchefuncte Site, Address Restricted, Mandeville, 00000717

PENNSYLVANIA

Montgomery County

Hunsberger, Isaac, House, 545 W. Ridge Pike, Limerick Twp., 00000719

RHODE ISLAND

Newport County

Sakonnet River Bridge, RI 24, Portsmouth, 00000720

SOUTH DAKOTA

Brookings County

Volga Auditorium (Federal Relief Construction in South Dakota MPS), 212 Kasan Ave., Volga, 00000723

Codington County

Watertown Stadium (Federal Relief Construction in South Dakota MPS), 1600 W Kemp Ave., Watertown, 00000721

Jerauld County

Alpena Bathhouse and Swimming Pool (Federal Relief Construction in South Dakota MPS), Jct. of Fifth and Main, Alpena, 00000727

Meade County

Municipal Building—City Hall (Federal Relief Construction in South Dakota MPS), 206 Main St., Faith, 00000722

TENNESSEE

Giles County

Campbell Chapel African Methodist Episcopal Church (Rural African-American Churches in Tennessee MPS), Pulaski, Pulaski, 00000725

Grainger County

Henderson Chapel African Methodist Episcopal Zion Church (Rural African-American Churches in Tennessee MPS), Church St., Rutledge, 00000730

Lincoln County

Mount Zion Missionary Baptist Church (Rural African-American Churches in Tennessee MPS), 305 W. Maple St., Fayetteville, 00000731

Loudon County

Hackney Chapel AME Zion Church (Rural African-American Churches in Tennessee MPS), Address Restricted, Lenoir City, 00000729

McMinn County

Beth Salem Presbyterian Church (Rural African-American Churches in Tennessee MPS), TN 30 at Watson Rd., Athens, 00000728

UTAH

Washington County

Jepson, James, Jr., House, 15 East Jepson, Virgin, 00000732

WISCONSIN

Columbia County

Lodi Street-Prairie Street Historic District, Roughly Prairie St. from Second St. to Mill St., Lodi, 00000735

Kenosha County

Library Park, 711 59th Place, Kenosha, 00000733

Wood County

West Park Street Historic District, 300-417 West Park St., Marshfield, 00000734

A request for removal for procedural error has been made for the following resource:

IOWA

Jefferson County

Commercial Block (Louden Machinery Company, Fairfield Iowa MPS), 106,108,110 N, Main St. Fairfield, 99000120

[FR Doc. 00-14210 Filed 6-5-00; 8:45 am]

BILLING CODE 4310-70-P